DEPARTMENT OF COMMERCE

International Trade Administration

[A-533-843]

Certain Lined Paper Products From India: Preliminary Results of Antidumping Duty Administrative Review; 2014-2015

AGENCY: Enforcement and Compliance, International Trade Administration, Department of Commerce.

SUMMARY: In response to requests from interested parties, the Department of Commerce (the Department) is conducting an administrative review of the antidumping duty order on certain lined paper products (CLPP) from India, covering the period September 1, 2014, through August 31, 2015. We preliminarily determine that mandatory respondent Navneet Education Ltd. (Navneet) made sales of subject merchandise at less than normal value (NV) during the period of review (POR) and that mandatory respondent Kokuyo Riddhi Paper Products Private Limited (Kokuyo Riddhi) did not. Interested parties are invited to comment on these preliminary results.

DATES: Effective October 14, 2016.

FOR FURTHER INFORMATION CONTACT: Cindy Robinson or George McMahon, AD/CVD Operations, Office III, Enforcement and Compliance, International Trade Administration, U.S. Department of Commerce, 14th Street and Constitution Avenue NW., Washington DC 20230; telephone (202) 482-3797 or (202) 482-1167, respectively.

SUPPLEMENTARY INFORMATION:

Background

On September 2, 2015, the Department published a notice of initiation of an administrative review of the antidumping order on November 9, 2015.¹ On February 3, 2016, we subsequently rescinded the review, in part, with respect to two companies, SAB and Super Impex.²

¹ The Department initiated the review with regard to ten companies: Goldenpalm Manufacturers PVT Limited (Goldenpalm), Kokuyo Riddhi, Lodha Offset, Magic International Pvt. Ltd. (Magic), Marisa International (Marisa), Navneet, Pioneer Stationery Pvt Ltd (Pioneer), SAB International (SAB), SGM Paper Products, and Super Impex. See Initiation of Antidumping and Countervailing Duty Administrative Reviews, 80 FR 69193 (November 9, 2015).

² See Certain Lined Paper Products From India: Notice of Partial Rescission of Antidumping Duty Administrative Review; 2014-2015, 81 FR 5707 (February 3, 2016).

As explained in the memorandum from the Acting Assistant Secretary for Enforcement and Compliance, the Department exercised its discretion to toll all administrative deadlines due to a closure of the Federal Government. As a result, the revised deadline for the preliminary results of this review was June 7, 2016.³ On May 3, 2016, the Department extended the deadline for the preliminary results to October 5, 2016.

³ See Memorandum to the Record from Ron Lorentzen, Acting Assistant Secretary for Enforcement & Compliance, regarding “Tolling of Administrative Deadlines As a Result of the Government Closure During Snowstorm `Jonas,'” dated January 27, 2016. If the new deadline falls on a non-business day, in accordance with the Department's practice, the deadline will become the next business day.

On September 7, 2016, Petitioner submitted new factual information regarding Navneet's U.S. sales data.⁴ Given the timing of the submission, the Department could not address this new factual information in these preliminary results. The Department invited interested parties to submit comments no later than October 24, 2016,⁵ and will address the matter in the final results.

⁴ See Letter titled, “New Factual Information Filed by the Association of American School Paper Suppliers (Petitioner) and Extension of Deadline to Submit New Factual Information Pertaining to Navneet Education Ltd.'s (Navneet) Sales Reporting,” dated September 27, 2016.

⁵ Id.

Scope of the Order

The merchandise covered by the CLPP Order is certain lined paper products. The merchandise subject to this order is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁶

⁶ For a complete description of the Scope of the Order, see Memorandum from Christian Marsh, Deputy Assistant Secretary for Antidumping and Countervailing Duty Operations, to Ronald K. Lorentzen, Acting Assistant Secretary for Enforcement and Compliance, “Decision Memorandum for Preliminary Results of Antidumping Duty Administrative Review: Certain Lined Paper Products from India; 2014-2015” dated concurrently with and hereby adopted by this notice (Preliminary Decision Memorandum).

Preliminary Determination of No Shipments

In response to the Department's quantity and value questionnaire issued on November 9, 2015, Lodha Offset reported that it made no sales of subject merchandise during the POR.⁷ On November 19, 2015, we issued a non-shipment inquiry instruction to U.S. Customs and Border Protection (CBP) to confirm Lodha Offset's claim of non-shipment.⁸ We did not receive any contradictory information from CBP. Based on Lodha Offset's claim of no shipments and because no information to the contrary was received by the Department from CBP, we preliminarily determine that Lodha Offset had no shipments of the subject merchandise, and, therefore, no reviewable transactions, during the POR. For a full discussion of this determination, see the Preliminary Decision Memorandum.

⁷ See Lodha Offset's certified Quantity and Value response, dated November 11, 2015.

⁸ See CBP message number 5323301, dated November 19, 2015.

Methodology

The Department is conducting this review in accordance with section 751(a)(2) of the Tariff Act of 1930, as amended (the Act). Constructed export price or export price is calculated in accordance with section 772 of the Act. Normal value is calculated in accordance with section 773 of the Act. For a full description of the methodology underlying our preliminary results, see the Preliminary Decision Memorandum. The Preliminary Decision Memorandum is a public document and is on file electronically via Enforcement and Compliance's Antidumping and Countervailing Duty Centralized Electronic Service System (ACCESS). ACCESS is available to registered users at https://access.trade.gov and is available to all parties in the Central Records Unit, room B8024 of the main Department of Commerce building. In addition, a complete version of the Preliminary Decision Memorandum can be accessed directly on the internet at http://enforcement.trade.gov/frn/index.html. The signed Preliminary Decision Memorandum and the electronic version of the Preliminary Decision Memorandum are identical in content.

Preliminary Results of the Review

As a result of this review, the Department calculated a de minimis dumping margin for Kokuyo Riddhi and a weighted-average dumping margin 2.54 percent for Navneet for the period September 1, 2014, through August 31, 2015. Therefore, in accordance with section 735(c)(5)(A) of the Act, the Department assigned the weighted-average dumping margin of 2.54 percent calculated for Navneet to the five non-selected companies in these preliminary results, as referenced below.

Producer/exporter | Weighted- average dumping margin (percent)
Kokuyo Riddhi Paper Products Private Limited | 0.00/de minimis
Navneet Education Ltd | 2.54
Goldenpalm Manufacturers PVT Limited | 2.54
Magic International Pvt. Ltd | 2.54
Marisa International (Marisa) | 2.54
Pioneer Stationery Pvt Ltd (Pioneer) | 2.54
SGM Paper Products | 2.54

Assessment Rate

Upon issuance of the final results, the Department shall determine, and CBP shall assess, antidumping duties on all appropriate entries covered by this review. If the weighted-average dumping margin for Kokuyo Riddhi or Navneet is not zero or de minimis (i.e., less than 0.5 percent), we will calculate importer-specific ad valorem antidumping duty assessment rates based on the ratio of the total amount of dumping calculated for the importer's examined sales to the total entered value of those same sales in accordance with 19 CFR 351.212(b)(1).⁹ We will instruct CBP to assess antidumping duties on all appropriate entries covered by this review when the importer-specific assessment rate calculated in the final results of this review is above de minimis (i.e., 0.50 percent). Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review where applicable.

⁹ In these preliminary results, the Department applied the assessment rate calculation method adopted in Antidumping Proceedings: Calculation of the Weighted-Average Dumping Margin and Assessment Rate in Certain Antidumping Proceedings: Final Modification, 77 FR 8101 (February 14, 2012).

In accordance with the Department's “automatic assessment” practice, for entries of subject merchandise during the POR produced by each respondent for which they did not know that their merchandise was destined for the United States, we will instruct CBP to liquidate unreviewed entries at the all-others rate if there is no rate for the intermediate company(ies) involved in the transaction.

We intend to issue instructions to CBP 15 days after publication of the final results of this review.

Cash Deposit Requirements

The following cash deposit requirements will be effective upon publication of the notice of final results of administrative review for all shipments of subject merchandise entered, or withdrawn from warehouse, for consumption on or after the publication date of the final results of this administrative review, as provided by section 751(a)(2)(C) of the Act: (1) The cash deposit rate for respondents noted above will be the rates established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 3.91 percent, the all-others rate established in the investigation. These cash deposit requirements, when imposed, shall remain in effect until further notice.

Disclosure and Public Comment

The Department will disclose to parties to this proceeding the calculations performed in reaching the preliminary results within five days of the date of publication of these preliminary results.¹⁰ Pursuant to 19 CFR 351.309(c)(1)(ii), interested parties may submit case briefs not later than 30 days after the date of publication of this notice. Rebuttal briefs, limited to issues raised in the case briefs, may be filed not later than five days after the date for filing case briefs.¹¹ Parties who submit case briefs or rebuttal briefs in this proceeding are requested to submit with the argument: (1) A statement of the issue, (2) a brief summary of the argument, and (3) a table of authorities.¹² All briefs must be filed electronically using ACCESS. An electronically filed document must be received successfully in its entirety by the Department's electronic records system, ACCESS.

¹⁰ See 19 CFR 351.224(b).

¹¹ See 19 CFR 351.309(d).

¹² See 19 CFR 351.309(c)(2) and (d)(2).

Interested parties who wish to request a hearing must submit a written request to the Assistant Secretary for Enforcement and Compliance, U.S. Department of Commerce, using Enforcement and Compliance's ACCESS system within 30 days of publication of this notice.¹³ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.¹⁴ Parties should confirm by telephone the date, time, and location of the hearing.

¹³ See 19 CFR 351.310(c).

¹⁴ See 19 CFR 351.310.

Unless the deadline is extended pursuant to section 751(a)(3)(A) of the Act and 19 CFR 351.213(h)(2), the Department will issue the final results of this administrative review, including the results of our analysis of the issues raised by the parties in their case briefs, within 120 days after issuance of these preliminary results.

Notification to Importers

This notice serves as a preliminary reminder to importers of their responsibility under 19 CFR 351.402(f)(2) to file a certificate regarding the reimbursement of antidumping duties and/or countervailing duties prior to liquidation of the relevant entries during this review period. Failure to comply with this requirement could result in the Department's presumption that reimbursement of antidumping duties occurred and increase the subsequent assessment of the antidumping duties by the amount of antidumping duties reimbursed.

These preliminary results of review are issued and published in accordance with sections 751(a)(1) and 777(i)(1) of the Act and 19 CFR 351.213(h) and 351.221(b)(4).

Dated: October 5, 2016.
Ronald K. Lorentzen,
Acting Assistant Secretary for Enforcement and Compliance.

Appendix

List of Topics Discussed in the Preliminary Decision Memorandum

I. Summary

II. Background

A. Kokuyo Riddhi

B. Navneet

C. Extension of Preliminary Results

III. Scope of the Order

IV. Discussion of Methodology

A. Date of Sale

B. Product Comparisons

C. Comparisons to Normal Value

D. Determination of Comparison Method

E. Results of the Differential Pricing Analysis

F. Export Price

G. Normal Value

1. Home Market Viability

2. Level of Trade

3. Sales to Affiliated Customers

4. Cost of Production Analysis

a. Calculation of COP

b. Test of Comparison Market Prices and COP

c. Results of COP Test

d. Calculation of Normal Value Based on Comparison Market Prices

H. Margin for Company Not Selected for Individual Examination

I. Currency Conversion

V. Recommendation

[FR Doc. 2016-24823 Filed 10-13-16; 8:45 am]

BILLING CODE 3510-DS-P